FEDERAL MARITIME COMMISSION

Ocean Transportation Intermediary License Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 0242F.

Name: H. S. Renshaw Incorporated.

Address: 2121 N. Causeway Blvd., Suite 250, Metairie, LA 70001.

Date Revoked: March 3, 2010.

Reason: Failed to maintain a valid bond.

License Number: 1645F.

Name: Intermare Agency Services, Inc.

Address: 100 Alpha Drive, Suite 118, Destrehan, LA 70047.

Date Revoked: March 4, 2010.

Reason: Failed to maintain a valid bond.

License Number: 1804NF

Name: GAR International, Inc.

Address: 140 Main Street, El Segundo, CA 90245.

Date Revoked: March 9, 2010.

Reason: Surrendered license voluntarily.

License Number: 3302F.

Name: Chol In Kim dba Unimax International Company.

Address: 16901 South Keegan Avenue, Carson, CA 90746.

Date Revoked: March 3, 2010.

Reason: Failed to maintain a valid bond.

License Number: 4379N.

Name: U.S.G.A. Logistic, Inc.

Address: 16206 Aldine Westfield Road, Houston, TX 77032.

Date Revoked: March 15, 2010.

Reason: Surrendered license voluntarily.

License Number: 4648N.

Name: Mega Express, Inc.

Address: 6481 Orangethorpe Avenue, Suite 21, Buena Park, CA 90620.

Date Revoked: March 12, 2010.

Reason: Failed to maintain a valid bond.

License Number: 9800N.

Name: Unimax Express, Inc.

Address: 16901 South Keegan Avenue, Carson, Ca 90746.

Date Revoked: March 30, 2010.

Reason: Failed to maintain a valid bond.

License Number: 11296N.

Name: Master Air Cargo, Inc.

Address: 8344 NW 30th Terrace, Miami, FL 33122.

Date Revoked: March 26, 2010.

Reason: Failed to maintain a valid bond.

License Number: 15581N.

Name: C & H Freight (USA), LLC dba Pacwest.

Address: 20437 South Western Avenue, Torrance, CA 90501.

Date Revoked: March 11, 2010.

Reason: Failed to maintain a valid bond.

License Number: 16611N.

Name: ENC New York Inc.

Address: 182-16 147th Street, Jamaica, NY 11413.

Date Revoked: March 12, 2010.

Reason: Failed to maintain a valid bond.

License Number: 016706N.

Name: Inter-trade Liner Shipping Co., Inc.

Address: 2111 West Cresent Avenue, Suite E, Anaheim, CA 92801.

Date Revoked: March 12, 2010.

Reason: Failed to maintain a valid bond.

License Number: 016914NF.

Name: Air Sea Cargo Network, Inc.

Address: 3480 Diablo Avenue, Hayward, CA 94545.

Date Revoked: March 12, 2010.

Reason: Failed to maintain valid bonds.

License Number: 017970N.

Name: Diarama Export, Inc.

Address: 2754 NW North River Drive, Suite 6, Miami, FL 33142.

Date Revoked: March 18, 2010.

Reason: Failed to maintain a valid bond.

License Number: 019032N.

Name: Fil-Am Cargo Corporation.

Address: 8340 Van Nuys Blvd., Unit L, Panorama, CA 91402.

Date Revoked: March 12, 2010.

Reason: Failed to maintain a va lid bond.

License Number: 020347NF.

Name: Summit of Washington LLC.

Address: 8033 W. 224th Street, Bldg. F, Kent, WA 98032.

Date Revoked: March 12, 2010.

Reason: Failed to maintain valid bonds.

License Number: 020623N.

Name: Carie Freight, Inc.

Address: 1990 North Rosemead Blvd., Suite 201, South El Monte, CA 91733.

Date Revoked: January 31, 2010.

Reason: Surrendered license voluntarily.

License Number: 020764N.

Name: Get One Later, Inc. dba Omega Shipping West.

Address: 4379 Sheila Street, Los Angeles, CA 90023.

Date Revoked: October 4, 2010.

Reason: Failed to maintain a valid bond.

License Number: 020770NF.

Name: Four Point USA Inc.

Address: 6307 NW 99th Avenue, Doral, FL 33178.

Date Revoked: March 18, 2010.

Reason: Surrendered license voluntarily.

License Number: 020782NF.

Name: Euroworld Transport System America, Inc.

Address: 350 S. Northwest Highway, Suite 300, Park Ridge, IL 60068.

Date Revoked: March 23, 2010.

Reason: Surrendered license voluntarily.

License Number: 020849N.

Name: Master Freight America, Corp.

Address: 2025 NW 102nd Avenue, Unit 111, Miami, FL 33172.

Date Revoked: March 11, 2010.

Reason: Failed to maintain a valid bond.

License Number: 021258NF.

Name: Aero Logistics, LLC.

Address: 345 Swift Avenue, South San Francisco, CA 94080.

Date Revoked: March 1, 2010.

Reason: Surrendered license voluntarily.

License Number: 021270N.

Name: CT Telecom, Inc. dba JK Logis.

Address: 154-09 146th Avenue, 3rd Floor, Unit A, Jamaica, NY 11434.

Date Revoked: March 2, 2010.

Reason: Surrendered license voluntarily.

License Number: 021387N.

Name: Gaius Logistics Services LLC.

Address: 501 Penhorn Avenue, Unit 1, Secaucus, NJ 07094.

Date Revoked: March 14, 2010.

Reason: Failed to maintain a valid bond.

License Number: 021491F.

Name: Virginia A. Wodock dba I.F.S. of Indiana.

Address: 823 South Round Barn Road, Suite 2, Richmond, IN 47374.

Date Revoked: March 14, 2010.

Reason: Failed to maintain a valid bond.

License Number: 021896N.

Name: Logistic Freight Forwarders Group, Inc.

Address: 7232 NW 56th Street, Miami, FL 33166.

Date Revoked: March 25, 2010.

Reason: Failed to maintain a valid bond.

Sandra L. Kusumoto,
Director, Bureau of Certification and Licensing.

[FR Doc. 2010-9231 Filed 4-21-10; 8:45 am]

BILLING CODE P